DEPARTMENT OF LABOR

Employment and Training Administration

[TA-W-55,255]

Pinnacle Steel Processing, Inc., Including Leased Workers of Atwork Personnel Services, Inc. and Staffing Solutions, Jefferson City, TN; Notice of Revised Determination on Reconsideration

By letter dated October 11, 2004, a company official requested administrative reconsideration regarding the Department's Negative Determination Regarding Eligibility to Apply for Worker Adjustment Assistance and Alternative Trade Adjustment Assistance (ATAA), applicable to the workers of the subject firm.

The initial investigation resulted in a negative determination issued on August 12, 2004, based on the finding that the petitioning group of workers does not qualify as secondarily affected workers as suppliers to a firm or subdivision primarily affected by increased imports or a shift in production abroad, nor did imports of slit steel coil contribute importantly to worker separations at the subject firm. The denial notice was published in the Federal Register on September 8, 2004 (69 FR 54321).

To support the request for reconsideration, the company official supplied additional major customers to supplement those that were surveyed during the initial investigation. Upon further review and survey, it was revealed that a major customer of the subject firm increased their purchases of imported slit steel coil significantly, while decreasing their purchases of domestically produced slit steel coil during the relevant period.

In addition, in order for the Department to issue a certification of eligibility to apply for ATAA, the group eligibility requirements of section 246 of the Trade Act must be met. The Department has determined in this case that the requirements of section 246 have been met.

A significant number of workers at the firm are age 50 or over and possess skills that are not easily transferable. Competitive conditions within the industry are adverse.

Conclusion

After careful review of the additional facts obtained on reconsideration, I conclude that increased imports of articles like or directly competitive with those produced at Pinnacle Steel Processing, Inc., Jefferson City, Tennessee, contributed importantly to the declines in sales or production and to the total or partial separation of workers at the subject firm. In accordance with the provisions of the Act, I make the following certification:

All workers of Pinnacle Steel Processing, Inc., Jefferson City, Tennessee including leased workers of AtWork Personnel Services, Inc., and Staffing Solutions, working at Pinnacle Steel Processing, Inc., Jefferson City, Tennessee, who became totally or partially separated from employment on or after July 13, 2003, through two years from the date of this certification, are eligible to apply for adjustment assistance under section 223 of the Trade Act of 1974, and are also eligible to apply for alternative trade adjustment assistance under section 246 of the Trade Act of 1974.

Signed in Washington, DC, this 14th day of January, 2005.
Elliott S. Kushner,
Certifying Officer, Division of Trade Adjustment Assistance.

[FR Doc. E5-270 Filed 1-25-05; 8:45 am]

BILLING CODE 4510-30-P